DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 74 FR 68630-3 1, dated December 28, 2009) is amended to reflect the establishment of the Office of Noncommunicable Diseases, Injury and Environmental Health.

Section C-B, Organization and Functions, is hereby amended as follows:

After the mission statement for the Centers for Disease Control and Prevention (C), delete the title and insert the following:

Office of Noncommunicable Diseases, Injury and Environmental Health (CU). The mission of the Office of Noncommunicable Diseases, Injury and Environmental Health (ONDIEH) is to reduce the burden of noncommunicable diseases, injuries, disabilities and environmental health hazards.

Office of the Director (CUA). (1) Advises the CDC Director on issues related to noncommunicable diseases, injury prevention, disability, and environmental health; (2) provides overall strategic direction and leadership for noncommunicable diseases, injury prevention, disability and environmental health; (3) promotes and supports noncommunicable diseases, injury prevention, disability, and environmental health related science, policies and programs; and (4) identifies, facilitates, and promotes cross center and cross-agency collaboration, innovation, and new initiatives related to noncommunicable diseases, injury prevention, disability, and environmental health.

Dated: February 3, 2010.
William P. Nichols,
Acting Chief Operating Officer, Centers for Disease Control and Prevention.

[FR Doc. 2010-3069 Filed 2-18-10; 8:45 am]

BILLING CODE 4160-18-M